DEPARTMENT OF HEALTH AND HUMAN SERVICES

Health Resources and Services Administration

Meeting of the Advisory Committee on Infant Mortality

AGENCY: Health Resources and Services Administration (HRSA), Department of Health and Human Services.

ACTION: Notice.

SUMMARY: In accordance with the Federal Advisory Committee Act, this notice announces that the Advisory Committee on Infant Mortality (ACIM or Committee) has scheduled a public meeting. Information about ACIM and the agenda for this meeting can be found on the ACIM website at https://www.hrsa.gov/advisory-committees/infant-mortality/index.html.

DATES: September 21, 2021, 12:00 p.m.-4:00 p.m. Eastern Time and September 22, 2021, 12:00 p.m.-4:00 p.m. Eastern Time.

ADDRESSES: This meeting will be held via webinar. The webinar link and log-in information will be available at ACIM's website before the meeting: https://www.hrsa.gov/advisory-committees/infant-mortality/index.html.

FOR FURTHER INFORMATION CONTACT: Vanessa Lee, MPH, Designated Federal Official, Maternal and Child Health Bureau, HRSA, 5600 Fishers Lane, Room 18N84, Rockville, Maryland 20857; (301) 443-0543; or SACIM@hrsa.gov.

SUPPLEMENTARY INFORMATION: ACIM is authorized by section 222 of the Public Health Service Act (42 U.S.C. 217a), as amended. The Committee is governed by provisions of Public Law 92-463, as amended, (5 U.S.C. app. 2), which sets forth standards for the formation and use of Advisory Committees.

ACIM advises the Secretary of Health and Human Services on department activities and programs directed at reducing infant mortality and improving the health status of pregnant women and infants. ACIM represents a public-private partnership at the highest level to provide guidance and focus attention on the policies and resources required to address the reduction of infant mortality and the improvement of the health status of pregnant women and infants. With a focus on life course, the ACIM addresses disparities in maternal health to improve maternal health outcomes, including preventing and reducing maternal mortality and severe maternal morbidity. ACIM provides advice on how best to coordinate myriad federal, state, local, and private programs and efforts that are designed to deal with the health and social problems impacting infant mortality and maternal health, including implementation of the Healthy Start program and maternal and infant health objectives from the National Health Promotion and Disease Prevention Objectives (i.e., Healthy People 2030).

The agenda for the September 21-22, 2021, meeting is being finalized and may include the following topics: Federal program updates; discussion of recommendations by ACIM to the Secretary; fatality review programs; health of indigenous mothers and infants; financing of care; and patient-physician racial concordance in health care. Refer to the ACIM website for any updated information concerning the meeting.

Members of the public will have the opportunity to provide written or oral comments. Requests to submit a written statement or make oral comments to the ACIM should be sent to Vanessa Lee, using the email address above at least three business days prior to the meeting. Public participants may submit written statements in advance of the scheduled meeting by emailing SACIM@hrsa.gov. Oral comments will be honored in the order they are requested and may be limited as time allows.

Individuals who plan to attend and need special assistance or another reasonable accommodation should notify Vanessa Lee at the contact information listed above at least 10 business days prior to the meeting.

Maria G. Button,
Director, Executive Secretariat.

[FR Doc. 2021-18378 Filed 8-25-21; 8:45 am]

BILLING CODE 4165-15-P